DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic Steel Pipe; A53 Grade B, 26″ OD, 0.375″ wall for construction of a Recovery Act project on SR 60, Section A40, in Allegheny County, Pennsylvania.

DATES: The effective date of the waiver is October 20, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., est., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic Steel Pipe; A53 Grade B, 26″ OD, 0.375″ wall for a portion of sign support structure No. S-28760 proposed for Recovery Act project on SR 60 in Alleghany County, PA.

In accordance with Division A, section 123 of the “Consolidated Appropriations Act, 2010″ (Pub. L. 111-117), the FHWA published a notice of intent to issue a waiver on its Web site Steel Pipe; A53 Grade B, 26″ OD, 0.375″ wall (http://www.fhwa.dot.gov/construction/contracts/waivers.cfm?id=51) on July 16th. The FHWA received five comments in response to the publication. The five comments suggested different domestic manufacturers of Steel Pipe; A53 Grade B and opposed the approval of the waiver request. The PennDOT contacted the potential domestic manufactures Berg Steel Corporation, McJunkin Red Man Corporation, and Trinity Prod. Berg Steel corporation stated that they do not have inventory in the pipe size requested. McJunkin Red Man Corporation responded that their pipe size is only 24″ OD and not up to 26″ OD. Trinity Prod. indicated that it can make the pipe size up to 26″ OD, but the required quantity is less than 600 tons which is required to establish a production run. During the 15-day comment period, the FHWA conducted additional nationwide review to locate potential domestic manufacturers for a Steel Pipe; A53 Grade B, 26″ OD, 0.375″ wall. Based on all the information available to the agency, the FHWA concludes that there are no domestic manufacturers of Steel Pipe; A53 Grade B, 26″ OD, 0.375″ wall. Given the lack of current availability for domestic steel for this particular application, the FHWA has discussed the need for PennDOT to consider alternate designs using domestic steel on future Federal-aid projects.

In accordance with the provisions of section 117 of the Safe, Accountable, Flexible, Efficient Transportation Equity Act: A Legacy for Users Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Pennsylvania waiver page noted above.

Authority: 23 U.S.C. 313; Pub. L. 110-161, 23 CFR 635.410.

Issued on: October 7, 2010.
Victor M. Mendez,
Federal Highway Administrator.

[FR Doc. 2010-26299 Filed 10-18-10; 8:45 am]

BILLING CODE 4910-22-P